DEPARTMENT OF HOUSING AND URBAN DEVELOPMENT

[Docket No. FR-5045-N-41]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Marsha Pruitt, Realty Officer, Department of Agriculture, Reporters Building, 300 7th St., SW., Rm 310B, Washington, DC 20250; (202) 720-4335; Army: Ms. Veronica Rines, Headquarters, Department of the Army, Office of the Assistant Chief of Staff for Installation Management, Attn: DAIM-ZS, Rm 8536, 2511 Jefferson Davis Hwy., Arlington, VA 22202; (703) 601-2520; Energy: Mr. John Watson, Department of Energy, Office of Engineering & Construction Management, ME-90, 1000 Independence Ave., SW., Washington, DC 20585: (202) 586-0072; GSA: Mr. John Kelly, Acting Deputy Assistant Commissioner, General Services Administration, Office of Property Disposal, 18th & F Streets, NW., Washington, DC 20405; (202) 501-0084; Interior: Ms. Linda Tribby, Acquisition & Property Management, Department of the Interior, 1849 C Street, NW., MS5512, Washington, DC 20240; (202) 513-0747; Navy: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: October 5, 2006.
Mark R. Johnston,
Acting Deputy Assistant Secretary for Special Needs.

Title V, Federal Surplus Property Program Federal Register Report for 10/13/06

Suitable/Available Properties

Buildings (by State)

California

Trailers 288, 289, 290, 293

Stanford Linear Accelerator Center

Menlo Park Co: San Mateo, CA 94025-

Landholding Agency: Energy

Property Number: 41200630006

Status: Excess

Comment: various sq. ft., presence of asbestos, most recent use—office, need significant repair, off-site use only

Colorado

Bldg. 128

Aspen Ranger District

Pitkin Co: CO 81601-

Landholding Agency: Agriculture

Property Number: 15200630001

Status: Unutilized

Comment: 600 sq. ft. cabin, needs extensive repairs, off-site use only

Indiana

Former SSA

327 W. Marion Street

Elkhart Co: IN 46516-

Landholding Agency: GSA

Property Number: 54200630015

Status: Surplus

Comment: 6636 sq. ft., most recent use—office

GSA Number: 1-GR-IN-05962A

New Mexico

Dwelling #25

Ranger Lane

Cuba Co: Sandoval, NM 87013-

Landholding Agency: GSA

Property Number: 54200630018

Status: Surplus

Comment: 1120 sq. ft., potential hantavirus contamination, off-site use only

GSA Number: 7-A-NM-0590

Infra #30203

Fenton Hill Site

Mora Co: NM 87535-

Landholding Agency: GSA

Property Number: 54200630019

Status: Surplus

Comment: 194 sq. ft., potential hantavirus contamination, off-site use only

GSA Number: 7-A-NM-0591

Washington

Bldg. 87

Yakima Project

1917 Marsh Road

Yakima Co: WA 98901-

Landholding Agency: Interior

Property Number: 61200630013

Status: Excess

Comment: 1032 sq. ft., presence of asbestos/lead paint, most recent use—office, off-site use only

Bldg. 88

Yakima Project

1917 Marsh Road

Yakima Co: WA 98901-

Landholding Agency: Interior

Property Number: 61200630014

Status: Excess

Comment: 1032 sq. ft., presence of asbestos/lead paint, most recent use—office, off-site use only

Bldg. 127

Yakima Project

1917 Marsh Road

Yakima Co: WA 98901-

Landholding Agency: Interior

Property Number: 61200630015

Status: Excess

Comment: 1152 sq. ft., most recent use—office, off-site use only

Bldg. 133

Yakima Project

1917 Marsh Road

Yakima Co: WA 98901-

Landholding Agency: Interior

Property Number: 61200630016

Status: Excess

Comment: 1680 sq. ft., most recent use—office, off-site use only

Land (by State)

Arizona

2.0 acres

Tract No. DB-2-77

I-19 off ramp

Tucson Co: AZ

Landholding Agency: Interior

Property Number: 61200630006

Status: Excess

Comment: 2.0 acres, Del Bac Substation Site

California

Former Outer Marker Facility

215 W. 118th Street

Los Angeles Co: CA 90061-

Landholding Agency: GSA

Property Number: 54200630014

Status: Unutilized

Comment: 5200 sq. ft./paved

GSA Number: 9-U-CA-1614

Kentucky

Tract S-2

3301 Leestown Road

Lexington Co: Fayette, KY 40511-

Landholding Agency: GSA

Property Number: 54200630016

Status: Excess

Comment: 40.2 acres/hayfield, potential of sinkholes, potential contamination from adjacent site

GSA Number: 4-J-KY-0622

Utah

3.78 acres

Jordanelle Reservoir

Hwy. 40

Wasatch Co: UT

Landholding Agency: Interior

Property Number: 61200630012

Status: Excess

Comment: steep sloping land

Vermont

Former FAA Middle Marker

Richardson Road

Berlin Corners Co: VT 50053-

Landholding Agency: GSA

Property Number: 54200630021

Status: Excess

Comment: 0.06 acres and 0.4 in easement, extremely small w/electrical closet

GSA Number: 1-U-VT-0477

Suitable/Unavailable Properties

Buildings (by State)

Kentucky

Bldg. 06894

Fort Campbell

Christian Co: KY 42223-

Landholding Agency: Army

Property Number: 21200630070

Status: Unutilized

Comment: 4240 sq. ft., most recent use—vehicle maintenance shop, off-site use only

Bldg. 06895

Fort Campbell

Christian Co: KY 42223-

Landholding Agency: Army

Property Number: 21200630071

Status: Unutilized

Comment: 4725 sq. ft., most recent use—storage, off-site use only

North Carolina

Bldg. 1323

Fort Bragg

Hammond Hills Housing Area

Ft. Bragg Co: NC 28310-

Landholding Agency: Army

Property Number: 21200630072

Status: Unutilized

Comment: 568,876 sq. ft., most recent use—residential, off-site use only

Texas

Bldg. 00738

Fort Hood

Bell Co: TX 76544-

Landholding Agency: Army

Property Number: 21200630073

Status: Excess

Comment: 6400 sq. ft., most recent use—storage, off-site use only

Virginia

142.67 acres/7 Bldgs.

Pepermeir Hill Road

U.S. Geological Survey

Corbin Co: VA 22446-

Landholding Agency: GSA

Property Number: 54200630020

Status: Excess

Comment: various sq. ft., most recent use—research/development/calibration lab/test measuring circuit

GSA Number : 4-I-VA-0748

Wisconsin

Bldgs. 02128, 02129

Fort McCoy

Monroe Co: WI 54656-

Landholding Agency: Army

Property Number: 21200630074

Status: Underutilized

Comment: 9000 sq. ft. each, presence of asbestos/lead paint, most recent use—storage

Bldg. 02130

Fort McCoy

Monroe Co: WI 54656-

Landholding Agency: Army

Property Number: 21200630075

Status: Underutilized

Comment: 3600 sq. ft., presence of asbestos/lead paint, most recent use—commissary

Bldgs. 02131, 02133

Fort McCoy

Monroe Co: WI 54656-

Landholding Agency: Army

Property Number: 21200630076

Status: Underutilized

Comment: 9000 sq. ft. each, presence of asbestos/lead paint, most recent use—storage

Bldgs. 02134, 02135

Fort McCoy

Monroe Co: WI 54656-

Landholding Agency: Army

Property Number: 21200630077

Status: Underutilized

Comment: 9000 sq. ft. each, presence of asbestos/lead paint, most recent use—storage

Bldg. 02139

Fort McCoy

Monroe Co: WI 54656-

Landholding Agency: Army

Property Number: 21200630078

Status: Underutilized

Comment: 9360 sq. ft., presence of asbestos/lead paint, most recent use—storage

Bldg. 02150

Fort McCoy

Monroe Co: WI 54656-

Landholding Agency: Army

Property Number: 21200630079

Status: Underutilized

Comment: 8448 sq. ft., presence of asbestos/lead paint, most recent use—storage

Bldg. 02153

Fort McCoy

Monroe Co: WI 54656-

Landholding Agency: Army

Property Number: 21200630080

Status: Underutilized

Comment: 4000 sq. ft., presence of asbestos/lead paint, most recent use—storage

Unsuitable Properties

Buildings (by State)

Alaska

Courthouse Parking Lot

7th Avenue

Anchorage Co: AK

Landholding Agency: GSA

Property Number: 54200630013

Status: Underutilized

Reason: Within 2000 ft. of flammable or explosive material

GSA Number : 9-G-AK-0798

Arizona

Quarters 102, 103

Lake Mead Nat. Rec.

Bullhead Co: Mohave, AZ 86429-

Landholding Agency: Interior

Property Number: 61200630007

Status: Excess

Reason: Extensive deterioration

Colorado

Tract 04-120

Rocky Mtn. National Park

Estes Park Co: Larimer, CO 80517-

Landholding Agency: Interior

Property Number: 61200630008

Status: Unutilized

Reason: Extensive deterioration

Tract 6-121

McGraw Ranch

Larimer Co: CO 80517-

Landholding Agency: Interior

Property Number: 61200630009

Status: Unutilized

Reason: Extensive deterioration

Indiana

Bldgs. 157, 158

Naval Support Activity

Crane Co: Martin, IN 47522-

Landholding Agency: Navy

Property Number: 77200630046

Status: Unutilized

Reason: Extensive deterioration

Bldgs. 161, 164, 167

Naval Support Activity

Crane Co: Martin, IN 47522-

Landholding Agency: Navy

Property Number: 77200630047

Status: Unutilized

Reason: Extensive deterioration

Bldg. 173

Naval Support Activity

Crane Co: Martin, IN 47522-

Landholding Agency: Navy

Property Number: 77200630048

Status: Unutilized

Reason: Extensive deterioration

Bldg. 2179

Naval Support Activity

Crane Co: Martin, IN 47522-

Landholding Agency: Navy

Property Number: 77200630049

Status: Unutilized

Reason: Extensive deterioration

Bldgs. 2501, 2502, 2503

Naval Support Activity

Crane Co: Martin, IN 47522-

Landholding Agency: Navy

Property Number: 77200630050

Status: Unutilized

Reason: Extensive deterioration

Bldg. 2715

Naval Support Activity

Crane Co: Martin, IN 47522-

Landholding Agency: Navy

Property Number: 77200630051

Status: Unutilized

Reason: Extensive deterioration

Bldg. 159

Navy Support Activity

Crane Co: Martin, IN 47522-

Landholding Agency: Navy

Property Number: 77200640002

Status: Unutilized

Reason: Extensive deterioration

Bldgs. 162, 163

Navy Support Activity

Crane Co: Martin, IN 47522-

Landholding Agency: Navy

Property Number: 77200640003

Status: Unutilized

Reason: Extensive deterioration

Bldgs. 166, 168

Navy Support Activity

Crane Co: Martin, IN 47522-

Landholding Agency: Navy

Property Number: 77200640004

Status: Unutilized

Reason: Extensive deterioration

Bldgs. 171, 172

Navy Support Activity

Crane Co: Martin, IN 47522-

Landholding Agency: Navy

Property Number: 77200640005

Status: Unutilized

Reason: Extensive deterioration

Bldg. 2193

Navy Support Activity

Crane Co: Martin, IN 47522-

Landholding Agency: Navy

Property Number: 77200640006

Status: Unutilized

Reason: Extensive deterioration

Maryland

Bldg. 193

Naval Surface Warfare

Indian Head Co: MD

Landholding Agency: Navy

Property Number: 77200630034

Status: Excess

Reason: Extensive deterioration

Bldg. 232

Naval Surface Warfare

Indian Head Co: MD -

Landholding Agency: Navy

Property Number: 77200630035

Status: Excess

Reason: Extensive deterioration

Bldgs. 377, 379

Naval Surface Warfare

Indian Head Co: MD -

Landholding Agency: Navy

Property Number: 77200630036

Status: Excess

Reason: Extensive deterioration

Bldgs. 500, 501

Naval Surface Warfare

Indian Head Co: MD -

Landholding Agency: Navy

Property Number: 77200630037

Status: Excess

Reason: Extensive deterioration

Bldg. 648

Naval Surface Warfare

Indian Head Co: MD -

Landholding Agency: Navy

Property Number: 77200630038

Status: Excess

Reason: Extensive deterioration

Bldgs. 883, 885

Naval Surface Warfare

Indian Head Co: MD

Landholding Agency: Navy

Property Number: 77200630039

Status: Excess

Reason: Extensive deterioration

Bldg. 1053

Naval Surface Warfare

Indian Head Co: MD

Landholding Agency: Navy

Property Number: 77200630040

Status: Excess

Reason: Extensive deterioration

Bldg. 1343

Naval Surface Warfare

Indian Head Co: MD

Landholding Agency: Navy

Property Number: 77200630041

Status: Excess

Reason: Extensive deterioration

Bldg. 1932

Naval Surface Warfare

Indian Head Co: MD

Landholding Agency: Navy

Property Number: 77200630042

Status: Excess

Reason: Extensive deterioration

Bldg. 2075

Naval Surface Warfare

Indian Head Co: MD

Landholding Agency: Navy

Property Number: 77200630043

Status: Excess

Reason: Extensive deterioration

New Jersey

NIKE Site PH58

Paulsboro Road

Woolwich Township Co: NJ 08085—

Landholding Agency: GSA

Property Number: 54200630017

Status: Excess

Reasons: Within 2000 ft. of flammable or explosive material Extensive deterioration

GSA Number : 1-G-NJ-0538

New York

Tract 101-01

Eleanor Roosevelt Natl Historic Site

Hyde Park Co: Dutchess, NY 12578—

Landholding Agency: Interior

Property Number: 61200630010

Status: Excess

Reason: Extensive deterioration

South Carolina

Bldgs. 108-1P, 108-2P

Savannah River Site

Aiken Co: SC 29802—

Landholding Agency: Energy

Property Number: 41200630007

Status: Unutilized

Reason: Secured Area

Bldg. 1148

Naval Weapons Station

Goose Creek Co: Berkeley, SC 29445—

Landholding Agency: Navy

Property Number: 77200630044

Status: Excess

Reason: Extensive deterioration

Tennessee

6 Bldgs.

Navy Support Activity

Millington Co: TN

Location: N26A, 1550, 1550A, 1550C, 1550D, 1550E

Landholding Agency: Navy

Property Number: 77200640001

Status: Excess

Reason: Secured Area

Texas

Bldgs. 11-54, 11-54A

Zone 11

Plantex Plant

Amarillo Co: Carson, TX 79120—

Landholding Agency: Energy

Property Number: 41200630008

Status: Unutilized

Reasons: Within 2000 ft. of flammable or explosive material Secured Area

Bldg. 12-002B

Zone 12

Pantex Plant

Amarillo Co: Carson, TX 79120—

Landholding Agency: Energy

Property Number: 41200630009

Status: Unutilized

Reasons: Within 2000 ft. of flammable or explosive material Secured Area

4 Bldgs.

12-003, 12-R-003, 12-003L

Zone 12, Pantex Plant

Amarillo Co: Carson, TX 79120—

Landholding Agency: Energy

Property Number: 41200630010

Status: Unutilized

Reasons: Within 2000 ft. of flammable or explosive material Secured Area

Bldg. 12-014

Zone 12

Pantex Plant

Amarillo Co: Carson, TX 79120—

Landholding Agency: Energy

Property Number: 41200630011

Status: Unutilized

Reasons: Within 2000 ft. of flammable or explosive material Secured Area

Bldg. 12-24E

Zone 12

Pantex Plant

Amarillo Co: Carson, TX 79120—

Landholding Agency: Energy

Property Number: 41200630012

Status: Unutilized

Reasons: Within 2000 ft. of flammable or explosive material Secured Area

Washington

Bldg. 119

Yakima Project

Yakima Co: WA 98901—

Landholding Agency: Interior

Property Number: 61200630017

Status: Excess

Reason: Extensive deterioration

Bldgs. 128, 129

Yakima Project

Yakima Co: WA 98901—

Landholding Agency: Interior

Property Number: 61200630018

Status: Excess

Reason: Extensive deterioration

Bldg. 1032

Naval Base

Bangor Tower Site

Silverdale Co: WA 98315—

Landholding Agency: Navy

Property Number: 77200630045

Status: Unutilized

Reasons: Within 2000 ft. of flammable or explosive material Secured Area

Bldg. 71

Naval Magazine

Port Hadlock Co: Jefferson, WA 98339-9723

Landholding Agency: Navy

Property Number: 77200640007

Status: Unutilized

Reasons: Secured Area

Extensive deterioration

Bldgs. 82, 83

Naval Magazine

Port Hadlock Co: Jefferson, WA 98339-9723

Landholding Agency: Navy

Property Number: 77200640008

Status: Unutilized

Reasons: Secured Area

Extensive deterioration

Bldgs. 168, 188

Naval Magazine

Port Hadlock Co: Jefferson, WA 98339-9723

Landholding Agency: Navy

Property Number: 77200640009

Status: Unutilized

Reasons: Secured Area Extensive deterioration

Bldg. 729

Naval Magazine

Port Hadlock Co: Jefferson, WA 98339-9723

Landholding Agency: Navy

Property Number: 77200640010

Status: Unutilized

Reasons: Secured Area Extensive deterioration

Bldgs. 910, 921

Naval Magazine

Port Hadlock Co: Jefferson, WA 98339-9723

Landholding Agency: Navy

Property Number: 77200640011

Status: Unutilized

Reasons: Secured Area Extensive deterioration

[FR Doc. E6-16860 Filed 10-12-06; 8:45 am]

BILLING CODE 4210-67-P